DEPARTMENT OF HOMELAND SECURITY

Coast Guard

33 CFR Part 165

[Docket No. USCG-2011-0536]

RIN 1625-AA11

Regulated Navigation Area; Chelsea Street Bridge Construction, Chelsea, MA

AGENCY: Coast Guard, DHS.

ACTION: Temporary interim rule; clarification of comment period.

SUMMARY: The Coast Guard is clarifying that the public comment period on its July 19, 2011, temporary interim rule remains open for the duration of the rule's effective period. The rule established a Regulated Navigation Area (RNA) on the navigable waters of the Chelsea River under and surrounding the Chelsea Street Bridge (CSB) that crosses the Chelsea River between East Boston and Chelsea, Massachusetts.

DATES: Comments on the temporary interim rule published July 19, 2011, at 76 FR 42545 may be submitted through the effective period of the temporary interim rule, which ends May 31, 2012.

ADDRESSES: You may submit comments identified by docket number USCG-2011-0536 using any one of the following methods:

(1) Federal e-Rulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Documents indicated in this preamble as being available in the docket are part of docket USCG-2011-0536 and are available online by going to http://www.regulations.gov, inserting USCG-2011-0536 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Mark Cutter of the Waterways Management Division, U.S. Coast Guard Sector Boston; telephone 617-223-4000, e-mail Mark.E.Cutter@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

As this interim rule will be in effect before the end of the comment period, the Coast Guard will evaluate and revise this rule as necessary to address significant public comments.

Submitting Comments

If you submit a comment, please include the docket number for this rulemaking (USCG-2011-0536), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rule” and insert “USCG-2011-0536” in the “Keyword” box. Click “Search” then click on the balloon shape in the “Actions” column. If you submit comments by mail or hand delivery, submit them in an unbound format, no larger than 8.5 by 11 inches, suitable for copying and electronic filing. If you submit comments by mail and would like to know that they reached the Facility, please enclose a stamped, self-addressed postcard or envelope. We will consider all comments and material received during the comment period and may change this rule based on your comments.

Viewing Comments and Documents

To view comments, as well as documents mentioned in this preamble as being available in the docket, go to http://www.regulations.gov, click on the “read comments” box, which will then become highlighted in blue. In the “Keyword” box insert “USCG-2011-0536” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting in connection with the public comment period for this interim rule. But you may submit a request for one using one of the four methods specified under ADDRESSES. Please explain why you believe a public meeting would be beneficial. If we determine that one would aid this rulemaking, we will hold one at a time and place announced by a later notice in the Federal Register. Although they were not held specifically to solicit public comments on this interim rule, and were not announced in the Federal Register, the Coast Guard has held or participated in multiple locally announced informal waterway user meetings where waterway closures and restrictions were discussed, and we anticipate holding one or more additional informal meetings, with opportunity for public questions or comments, during the bridge construction. We will provide written summaries of any such meetings in the docket.

Discussion

We are issuing this notice to clarify that the public comment period for this temporary interim rule remains open for as long as the rule is in effect: Through May 31, 2012. Although the Regulatory Information portion of the rule's preamble, 76 FR 42545 at 42546 (Jul. 19, 2011) said we would accept public comments through September 19, 2011, it was not our intention to limit the public comment period in that way and the DATES section of the preamble indicated no such deadline. This notice is published under the authority of the Ports and Waterways Safety Act, 33 U.S.C. 1231, and Department of Homeland Security Delegation No. 0170.1.

Dated: September 27, 2011.
J. B. McPherson,
Captain, U.S. Coast Guard, Acting Commander, First Coast Guard District.

[FR Doc. 2011-27126 Filed 10-20-11; 8:45 am]

BILLING CODE 9110-04-P